DEPARTMENT OF TRANSPORTATION

Federal Aviation Administration

14 CFR Part 39

[Docket No. 99-NE-39-AD; Amendment 39-12791; AD 99-27-16R1]

RIN 2120-AA64

Airworthiness Directives; CFE Company Model CFE738-1-1B Turbofan Engines

AGENCY: Federal Aviation Administration, DOT.

ACTION: Final rule.

SUMMARY: This amendment revises an existing airworthiness directive (AD), that is applicable to CFE Company Model CFE738-1-1B turbofan engines. That AD currently requires a one-time visual inspection of stage 2 high pressure turbine (HPT) aft cooling plates for nicks, dents, raised metal, and scratches, and if necessary, repair of the cooling plates or replacement with serviceable parts. This amendment reduces the number of stage 2 HPT aft cooling plates affected by AD 99-27-16, and identifies the applicable engines by engine serial numbers (SN's). This amendment is prompted by an updated alert service bulletin (ASB) that reduces the number of stage 2 HPT aft cooling plates affected by AD 99-27-16 and identifies the applicable engines by engine SN's. The actions specified by this AD are intended to prevent stage 2 HPT aft cooling plate failure, which could result in an uncontained engine failure and damage to the airplane.

DATES: Effective date August 2, 2002. The incorporation by reference of certain publications listed in the regulations is approved by the Director of the Federal Register as of August 2, 2002.

ADDRESSES: The service information referenced in this AD may be obtained from CFE Company, Data Distribution, MS 64-03/2101-201, PO Box 29003, Phoenix, AZ 85038-9003; telephone (602) 365-2493, fax (602) 365-5577. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Keith Mead, Aerospace Engineer, Engine Certification Office, FAA, Engine and Propeller Directorate, 12 New England Executive Park, Burlington, MA 01803-5299; telephone: (781) 238-7744; fax: (781) 238-7199.

SUPPLEMENTARY INFORMATION: A proposal to amend part 39 of the Federal Aviation Regulations (14 CFR part 39) by revising AD 99-27-16, Amendment 39-11497 (65 FR 691, January 6, 2000), which is applicable to CFE Company model CFE738-1-1B turbofan engines, was published in the Federal Register on June 6, 2001 (66 FR 30341). That action proposed to reduce the number of stage 2 HPT aft cooling plates affected by AD 99-27-16, and identifies the applicable engines by engine SN's, in accordance with CFE Company Alert Service Bulletin (ASB) No. CFE738-A72-8031, Revision 2, dated October 17, 2000. Since the proposal was published, CFE Company has issued ASB No. CFE738-A72-8031, Revision 4, dated March 27, 2002, which includes the engine SN's that have the affected gas generator modules installed. This final rule references ASB Revision 4 instead of ASB Revision 2 which was referenced in the proposal.

Comments

Interested persons have been afforded an opportunity to participate in the making of this amendment. No comments were received on the proposal or the FAA's determination of the cost to the public. After careful review of the available data, including the ASB reference change noted above, the FAA has determined that air safety and the public interest require the adoption of the rule with the change described previously. The FAA has determined that this change will neither increase the economic burden on any operator nor increase the scope of the AD.

Economic Analysis

There are approximately ten engines of the affected design in the worldwide fleet. The FAA estimates that ten engines installed on airplanes of US registry would be affected by this AD, that it would take approximately four work hours per engine to accomplish the inspection if the inspection did not take place during scheduled maintenance, and that the average labor rate is $60 per work hour. Required parts would cost approximately $1,536 per engine. Based on these figures, the total cost of the AD on US operators is estimated to be $17,760.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11497 (65 FR 691, January 6, 2000) and by adding a new airworthiness directive, Amendment 39-12791, to read as follows:

99-27-16R1 CFE Company: Amendment 39-12791. Docket No. 99-NE-39-AD. Revises AD 99-27-16, Amendment 39-11497.

Applicability: This airworthiness directive (AD) is applicable to CFE Model CFE738-1-1B turbofan engines, part number (P/N) 3050000-5, with gas generator modules P/N 6091T09G01, serial numbers (SN's) 800421, 800422, 800423, 800424, 800425, 800426, 800427, 800428, 800429, and 800430 installed. These engines are installed on, but not limited to Dassault-Breguet Falcon 2000 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Compliance with this AD is required as indicated, unless already done.

To prevent stage 2 high pressure turbine (HPT) aft cooling plate failure, which could result in an uncontained engine failure and damage to the airplane, do the following:

Inspections and Follow-On Actions

(a) At the next engine shop visit after the effective date of this AD where the HPT assembly is sufficiently disassembled to afford access to the stage 2 HPT aft cooling plate, but not later than 4,500 part cycles-since-new (CSN), do the following:

(1) Inspect the stage 2 HPT aft cooling plate for nicks, dents, and scratches on surface D in accordance with the requirements of CFE Alert Service Bulletin (ASB) No. CFE738-A72-8031, Revision 4, dated March 27, 2002, paragraph 2.B.(1).

(2) Repair those stage 2 HPT aft cooling plates with indentation 0.003 inch deep or less in accordance with ASB No. CFE738-A72-8031, Revision 4, dated March 27, 2002, paragraph 2.B.(1).

(3) Remove from service before further flight those stage 2 HPT aft cooling plates that have nicks, dents, and/or scratches that exceed the acceptance limits in accordance with ASB No. CFE738-A72-8031, Revision 4, dated March 27, 2002, paragraph 2.B.(1), and replace with serviceable parts.

(4) Inspect the stage 2 HPT rotor disk post aft mating surface for raised metal, and remove raised metal if present in accordance with ASB No. CFE738-A72-8031, Revision 4, dated March 27, 2002, paragraph 2.B.(2).

Alternative Methods of Compliance

(b) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(c) Special flight permits may be issued in accordance with §§ 21.197 and 21.199 of the Federal Aviation Regulations (14 CFR 21.197 and 21.199) to operate the airplane to a location where the requirements of this AD can be done.

Documents That Have Been Incorporated By Reference

(d) The inspections and follow-on actions must be done in accordance with the following CFE Company Alert Service Bulletin (ASB):

Document No. | Pages | Revision | Date
ASB CFE738-A72-8031 | 1 | 4 | March 27, 2002.
| 2-5 | Original | May 17, 1999.
Total pages: 5

This incorporation by reference was approved by the Director of the Federal Register in accordance with 5 U.S.C. 552(a) and 1 CFR part 51. Copies may be obtained from CFE Company, Data Distribution, MS 64-03/2101-201, PO Box 29003, Phoenix, AZ 85038-9003; telephone (602) 365-2493, fax (602) 365-5577. Copies may be inspected, by appointment, at the FAA, New England Region, Office of the Regional Counsel, 12 New England Executive Park, Burlington, MA; or at the Office of the Federal Register, 800 North Capitol Street, NW., suite 700, Washington, DC.

Effective Date

(e) This amendment becomes effective on August 2, 2002.

Issued in Burlington, Massachusetts, on June 17, 2002.
Jay J. Pardee,
Manager, Engine and Propeller Directorate, Aircraft Certification Service.

[FR Doc. 02-16176 Filed 6-27-02; 8:45 am]

BILLING CODE 4910-13-P